DEPARTMENT OF EDUCATION

Applications for New Awards; Braille Training Program

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. The Department of Education (Department) is issuing a notice inviting applications for fiscal year (FY) 2019 for the Braille Training program, Catalog of Federal Domestic Assistance (CFDA) number 84.235E. The Braille Training program will partner with States and public or nonprofit agencies and organizations, including institutions of higher education to provide information, material, equipment, and training in braille instruction. The support provided by the program will increase the knowledge and skills of personnel providing vocational rehabilitation services or educational services to youth and adults who are blind. This notice relates to the approved information collection under OMB control number 1820-0018.

DATES:

Applications Available: May 30, 2019.

Deadline for Transmittal of Applications: July 1, 2019.

Pre-Application Webinar Information: No later than June 4, 2019, OSERS will post pre-recorded informational webinars designed to provide technical assistance to interested applicants. The webinars will be available at www2.ed.gov/fund/grant/apply/rsa/new-rsa-grants.html.

Pre-Application Q & A Blog: No later than June 4, 2019, OSERS will open a blog where interested applicants may post questions about the application requirements for this competition and where OSERS will post answers to the questions received. OSERS will not respond to questions unrelated to the application requirements for this competition. The blog will be available at www2.ed.gov/fund/grant/apply/rsa/new-rsa-grants.html and will remain open until June 18, 2019. After the blog closes, applicants should direct questions to the person listed under FOR FURTHER INFORMATION CONTACT. Deadline for Intergovernmental Review: August 28, 2019.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Theresa DeVaughn, U.S. Department of Education, 400 Maryland Avenue SW, Room 5062A, Potomac Center Plaza, Washington, DC 20202-2800. Telephone: (202) 245-7321. Email: theresa.devaughn@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The Braille Training program offers financial assistance to projects that will provide training in the use of braille for personnel providing vocational rehabilitation services or educational services to youth and adults who are blind, develop braille training materials, develop methods used to teach braille, and develop activities used to promote the knowledge and use of braille and nonvisual access technology for youth and adults who are blind. The absolute and invitational priorities align with the Secretary's supplemental priorities to encourage applicants to meet the unique needs of students and children with disabilities by ensuring coursework, books, or other materials are accessible to children or students who are blind; promoting science, technology, engineering, or math (STEM) education by ensuring braille instructors are able to teach mathematical and scientific braille notations; working with schools, municipal libraries, or other partners to expand access to digital learning resources to a greater number of children or students who are blind; and promoting literacy through the use of braille to meet the employment and independent living needs of adults. Further, the priorities support States in their work to raise expectations and improve outcomes for individuals with disabilities, in this case individuals who are blind, by demonstrating a commitment to high expectations for each individual with a disability and by engaging with individuals who are blind, their families, and other stakeholders through meaningful and effective collaboration. Projects must be operated in a manner consistent with nondiscrimination requirements contained in the U.S. Constitution and the Federal civil rights laws.

Priority: In accordance with 34 CFR 75.105(b)(2)(iv), this priority is from section 303(d) of the Rehabilitation Act of 1973, as amended (29 U.S.C. 773(d)).

Absolute Priority: For FY 2019, and any subsequent year in which we make awards from the list of unfunded applications from this competition, this priority is an absolute priority. Under 34 CFR 75.105(c)(3) we consider only applications that meet this priority.

This priority is:

Braille Training Program.

Under this priority, we provide grants for the establishment or continuation of projects that provide—

(1) Development of braille training materials;

(2) In-service or pre-service training in the use of braille, the importance of braille literacy, and methods of teaching braille to youth and adults who are blind; and

(3) Activities to promote knowledge and use of braille and nonvisual access technology for blind youth and adults through a program of training, demonstration, and evaluation conducted with leadership of experienced blind individuals, including the use of comprehensive, state-of-the-art technology.

Invitational Priorities: For FY 2019 and any subsequent year in which we make awards from the list of unfunded applications from this competition, these priorities are invitational priorities. Under 34 CFR 75.105(c)(1) we do not give an application that meets one or more of these invitational priorities a competitive or absolute preference over other applications.

These priorities are:

Invitational Priority 1—Braille Instruction to Transition-age Students and Youth:

Applications that demonstrate that the personnel obtaining braille instruction from the grantee will subsequently provide braille instruction to transition-age students and youth who are blind (typically ages 14 through 24). This priority is designed to meet the unique needs of students and children with disabilities by ensuring coursework, books, or other materials are accessible to children or students who are blind and to ensure that transition-age students and youth who are blind have the braille literacy skills to read the coursework, books, and materials.

Invitational Priority 2—Braille Training in the STEM Subjects:

Applications that address braille training in the STEM subjects, including mathematical notations. This priority is designed to promote STEM education by ensuring braille instructors are able to teach mathematical and scientific braille notations so that, ultimately, individuals who are blind have the braille literacy skills to read the specialized braille notations in order to enroll in STEM education.

Program Authority: 29 U.S.C. 773(d).

Applicable Regulations: (a) The Education Department General Administrative Regulations in 34 CFR parts 75, 77, 79, 81, 82, 84, 86, 97, and 99. (b) The Office of Management and Budget Guidelines to Agencies on Governmentwide Debarment and Suspension (Nonprocurement) in 2 CFR part 180, as adopted and amended as regulations of the Department in 2 CFR part 3474.

Note: The regulations in 34 CFR part 86 apply to institutions of higher education only.

II. Award Information

Type of Award: Discretionary grants.

Estimated Available Funds: $345,000.

Contingent upon the availability of funds and the quality of applications, we may make additional awards in subsequent years from the list of unfunded applications from this competition.

Estimated Average Size of Awards: $115,000.

Maximum Award: We will not make an award exceeding $115,000 for a single budget period of 12 months.

Estimated Number of Awards: 3.

Note: The Department is not bound by any estimates in this notice.

Project Period: Up to 60 months.

III. Eligibility Information

1. Eligible Applicants: States and public or nonprofit agencies and organizations, including institutions of higher education.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

IV. Application and Submission Information

1. Application Submission Instructions: Applicants are required to follow the Common Instructions for Applicants to Department of Education Discretionary Grant Programs, published in the Federal Register on February 13, 2019, and available at www.govinfo.gov/content/pkg/FR-2019-02-13/pdf/2019-02206.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

V. Application Review Information

1. Selection Criteria: The selection criteria for this competition are from 34 CFR 75.210, and are as follows:

(a) Need for project and significance (10 points).

(1) The Secretary considers the need for the proposed project and the significance of the project.

(2) In determining the need for the proposed project and the significance of the project, the Secretary considers the following factors:

(i) The magnitude of the need for the services to be provided or the activities to be carried out by the proposed project.

(ii) The importance or magnitude of the results or outcomes likely to be attained by the proposed project, especially improvements in teaching and student achievement.

(iii) The extent to which the results of the proposed project are to be disseminated in ways that will enable others to use the information or strategies.

(b) Quality of project design (30 points).

(1) The Secretary considers the quality of the design of the proposed project.

(2) In determining the quality of the design of the proposed project, the Secretary considers the following factors:

(i) The extent to which the design of the proposed project is appropriate to, and will successfully address, the needs of the target population or other identified needs.

(ii) The quality of the proposed demonstration design and procedures for documenting project activities and results.

(iii) The extent to which performance feedback and continuous improvement are integral to the design of the proposed project.

(c) Quality of project services (30 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The likely impact of the services to be provided by the proposed project on the intended recipients of those services.

(ii) The extent to which the training or professional development services to be provided by the proposed project are of sufficient quality, intensity, and duration to lead to improvements in practice among the recipients of those services.

(iii) The extent to which the services to be provided by the proposed project involve the collaboration of appropriate partners for maximizing the effectiveness of project services.

(d) Quality of project personnel, adequacy of resources, and quality of management plan (30 points).

(1) The Secretary considers the quality of the personnel who will carry out the proposed project, the adequacy of resources, and the quality of the management plan.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The adequacy of support, including facilities, equipment, supplies, and other resources, from the applicant organization or the lead applicant organization.

(iv) The extent to which the costs are reasonable in relation to the number of persons to be served and to the anticipated results and benefits.

(v) The extent to which time commitments of the project director and principal investigator and other key project personnel are appropriate and adequate to meet the objectives of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of programs by engaging in strategic planning, setting outcome-related goals for programs, and measuring program results against those goals.

The goal of the Braille Training program is to provide financial assistance to projects that will provide training in the use of braille for personnel providing vocational rehabilitation services or educational services to youth and adults who are blind. A grantee under this program must submit information to allow measurement of project outcomes and performance consistent with its approved application, including any data needed to comply with GPRA (34 CFR 373.21). For the Braille Training program, a grantee must collect information on the number of personnel who attend the program, the number of personnel who complete the program, and whether these personnel obtain positions where they provide braille instruction to blind youth and adults following completion of the program. Grantees are required to report annually to the Rehabilitation Services Administration (RSA) on these data.

Other information, as requested by RSA, may be required from grantees in order to verify substantial progress and to report to Congress and key stakeholders how well the program meets the stated objectives. Grantees are strongly encouraged to seek technical guidance as needed from RSA staff to ensure that they are meeting the objectives, goals, targets, and projected outcomes specified in their approved application. Program measures include the development of braille training materials, the methods used to teach braille, and the activities used to promote the knowledge and use of braille and nonvisual access technology for blind youth and adults. Annual project progress toward meeting project goals must be posted on the grantee or project website or university website.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Johnny W. Collett,
Assistant Secretary for Special Education and Rehabilitative Services.

[FR Doc. 2019-11226 Filed 5-29-19; 8:45 am]

BILLING CODE 4000-01-P